DEPARTMENT OF COMMERCE

International Trade Administration

[C-533-839]

Carbazole Violet Pigment 23 From India: Final Results of Countervailing Duty Administrative Review

AGENCY: Import Administration, International Trade Administration, Department of Commerce.

SUMMARY: On January 7, 2008, the Department of Commerce published in the Federal Register its preliminary results of administrative review of the countervailing duty order on carbazole violet pigment 23 from India for the period January 1, 2007, through December 31, 2007. See Carbazole Violet Pigment 23 from India: Preliminary Results of Countervailing Duty Administrative Review, 75 FR 977 (January 7, 2010) (Preliminary Results).

Following the Preliminary Results, we provided interested parties with an opportunity to comment on the Preliminary Results. Our analysis of the comments submitted and information received after the Preliminary Results did not lead to any changes in the net countervailable subsidy rate. Therefore, the final results do not differ from the Preliminary Results. The final net countervailable subsidy rate for Alpanil Industries, Ltd. (Alpanil) is listed below in the section entitled “Final Results of Review.”

DATES: Effective Date: June 11, 2010.

FOR FURTHER INFORMATION CONTACT: Myrna Lobo, AD/CVD Operations, Office 6, Import Administration, International Trade Administration, U.S. Department of Commerce, 14th Street and Constitution Avenue, NW., Washington, DC 20230; telephone: (202) 482-2371.

SUPPLEMENTARY INFORMATION:

Background

Since the publication of the Preliminary Results, the following events have occurred. The Department issued a supplemental questionnaire to Alpanil on March 10, 2010, and Alpanil filed its response on March 22, 2010. The Department issued a letter to the Government of India (GOI), seeking clarification on the Export Oriented Unit Program, on February 1, 2010, and the GOI responded on February 12, 2010. In response to Alpanil's December 11, 2009 submission to the Department regarding Alpanil's claimed name change to Meghmani Pigments, the Department issued a memorandum on April 20, 2010, determining that it would not examine the matter in this segment of the proceeding, but would consider it in the next appropriate segment of the proceeding. See Memorandum to File from Myrna Lobo, International Trade Compliance Analyst, AD/CVD Operations, Office 6: Administrative Review of the Countervailing Duty Order on Carbazole Violet Pigment 23 from India—Alpanil Industries, Ltd. Name Change to Meghmani Pigments (April 20, 2010). On the same day, the Department set a briefing schedule and informed all interested parties of the same. On May 4, 2010, Alpanil filed comments on the Preliminary Results. We did not receive comments from any other parties; neither did we receive a request for a hearing.

On May 12, 2010, the Department extended the deadline for the final results from May 14, 2010 to June 8, 2010. See Carbazole Violet Pigment 23 from India: Extension of Time Limit for Final Results of Countervailing Duty Administrative Review, 75 FR 26716 (May 12, 2010).

Scope of the Order

The merchandise covered by this order is Carbazole Violet Pigment 23 identified as Color Index No. 51319 and Chemical Abstract No. 6358-30-1, with the chemical name of diindolo [3,2-b:3',2'-m] triphenodioxazine, 8,18-dichloro-5,15-diethy-5,15-dihydro, and molecular formula of C34H22Cl2N4O2.¹ The subject merchandise includes the crude pigment in any form (e.g., dry powder, paste, wet cake) and finished pigment in the form of presscake and dry color. Pigment dispersions in any form (e.g., pigments dispersed in oleoresins, flammable solvents, water) are not included within the scope of the review. The merchandise subject to this order is classifiable under subheading 3204.17.9040 of the Harmonized Tariff Schedule of the United States (HTSUS). Although the HTSUS subheading is provided for convenience and customs purposes, the written description of the merchandise covered by the order is dispositive.

¹ The bracketed section of the product description, [3,2-b:3',2'-m], is not business proprietary information; the brackets are part of the chemical nomenclature.

Period of Review

The period for which we are measuring subsidies, i.e., the period of review (“POR”), is January 1, 2007 through December 31, 2007.

Analysis of Comments Received

All issues raised in Alpanil's case brief are addressed in the “Issues and Decision Memorandum for the Final Results of the Countervailing Duty Administrative Review of Carbazole Violet Pigment 23 (CVP-23) from India, from John M. Anderson, Acting Deputy Assistant Secretary to Ronald K. Lorentzen, Deputy Assistant Secretary for Import Administration” (June 8, 2010) (Issues and Decision Memorandum), dated concurrently with this notice and which is hereby adopted by this notice. The Issues and Decision Memorandum also contains a complete analysis of the programs covered by this review, and the methodologies used to calculate the subsidy rates. A list of the comments raised in the case brief, and addressed in the Issues and Decision Memorandum, is appended to this notice. The Issues and Decision Memorandum is a public document on file in the Central Records Unit, Room 1117 of the main Department building, and can be accessed directly on the Web at http://ia.ita.doc.gov/frn. The paper copy and electronic version of the Issues and Decision Memorandum are identical in content.

Final Results of Review

In accordance with section 751(a)(1)(A) of the Tariff Act of 1930, as amended (Act) and 19 CFR 351.221(b)(5), we calculated an individual ad valorem subsidy rate for Alpanil, the only producer/exporter subject to review for the calendar year 2007, set forth below:

Manufacturer/ exporter | Net countervailable subsidy rate
Alpanil Industries, Ltd | 7.79% Ad Valorem.

Assessment and Cash Deposit Instructions

The Department intends to issue assessment instructions to U.S. Customs and Border Protection (CBP) 15 days after the date of publication of these final results of review to liquidate shipments of subject merchandise by Alpanil entered, or withdrawn from warehouse, for consumption on or after January 1, 2007 through December 31, 2007. We will also instruct CBP to collect cash deposits of estimated countervailing duties, at the above rate, on shipments of the subject merchandise by Alpanil entered, or withdrawn from warehouse, for consumption on or after the date of publication of these final results of review. The cash deposit rates for all companies not covered by this review are not changed by the results of this review.

Return or Destruction of Proprietary Information

This notice serves as a reminder to parties subject to the administrative protective order (APO) of their responsibility concerning the disposition of proprietary information disclosed under the APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: June 7, 2010.
Ronald K. Lorentzen,
Deputy Assistant Secretary for Import Administration.

Appendix I—List of Issues Addressed in the Issues and Decision Memorandum

Comment 1: Whether Pre-Shipment Loans Provided a Benefit to Subject Merchandise

Comment 2: Whether Certain Shortfall Amounts Were Incorrectly Included in the DEPBS Benefit Calculation

[FR Doc. 2010-14109 Filed 6-10-10; 8:45 am]

BILLING CODE 3510-DS-P